COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 10/17/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/11/2010 (75 FR 33270-33271); 6/17/2011 (76 FR 35415-35417); and 7/15/2011 (76 FR 41767-41768), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8140-00-NSH-0013—M183 Demolition Charge Box.

NPA: Northeastern Michigan Rehabilitation and Opportunity Center (NEMROC), Alpena, MI.

Contracting Activity: DEPARTMENT OF THE ARMY, U.S. ARMY MATERIEL COMMAND, CRANE ARMY AMMUNITIONS ACTIVITY, CRANE, IN.

Coverage: C-List for 100% of the requirement of the Crane Army Ammunition Activity as aggregated by the Department of the Army, U.S. Army Materiel Command, Crane Army Ammunitions Activity, Crane, IN.

NSN: 8465-01-580-1664—MOLLE Component, Shoulder Straps, Frame, Enhanced, OCP

NPAs: Winston-Salem Industries for the Blind, Inc., Winston-Salem, NC. Blind Industries & Services of Maryland, Baltimore, MD.

Contracting Activity: DEPARTMENT OF THE ARMY RESEARCH, DEVELOPMENT, & ENGINEERING COMMAND (RDECOM), NATICK, MA.

Coverage: C-List for 100% of the requirement the Department of the Army, as aggregated by the Department of the Army Research, Development, & Engineering Command, Natick, MA.

Services

Service Type/Location: Custodial and Grounds Maintenance Services, Mill Creek Recreation Area, 3211 Reservoir Road, Walla Walla, WA.

NPA: Lillie Rice Center, Walla Walla, WA.

Contracting Activity: DEPT OF THE ARMY, XU W071 ENDIST WALLA WALLA, WALLA WALLA, WA.

Service Type/Location: Warehouse Staffing Services, Warehouse Section—Building Branch—NOAA's Logistics Div., Building 22, 325 Broadway Street, Boulder, CO.

NPA: Bayaud Industries, Inc., Denver, CO.

Contracting Activity: DEPT OF COMMMERCE, NATIONAL OCEANIC AND ATMOSPHERIC ADMINISTRATION, BOULDER, CO.

Service Type/Location: Tier 1 Help Desk (Call Center) Service, Defense Logistics Agency, Fort Belvoir, VA. (Offsite: 2511 Martin Luther King Blvd., Lansing, MI)

NPA: Peckham Vocational Industries, Inc., Lansing, MI.

Contracting Activity: Defense Logistics Agency, Contracting Services Office, Fort Belvoir, VA.

Barry S. Lineback,
Director, Business Operations.

[FR Doc. 2011-23803 Filed 9-15-11; 8:45 am]

BILLING CODE 6353-01-P